DEPARTMENT OF THE INTERIOR

Bureau of Land Management

[CO-600-00-1040-PG-241A]

Southwest Colorado and Northwest Colorado Resource Advisory Council Meetings

AGENCY: Bureau of Land Management, Interior.

ACTION: Notice of meetings.

SUMMARY: Notice is hereby given that the next meeting of the Southwest Colorado Resource Advisory Council (RAC) will be held December 6, 2001, at the Bureau of Land Management (BLM) Office located at 2465 South Townsend in Montrose, Colorado. Notice is also given that the next meeting of the Northwest Colorado RAC will be held on December 13, 2001, at the Bureau of Land Management (BLM) Office located at 2815 H Road in Grand Junction, Colorado.

DATES: Southwest RAC meeting: December 6, 2001; Northwest RAC meeting: December 13, 2001.

FOR FURTHER INFORMATION CONTACT: Larry J. Porter, Bureau of Land Management, 2815 H Road, Grand Junction, Colorado 81506; Telephone (970) 244-3012.

SUPPLEMENTARY INFORMATION: The Southwest Colorado RAC will meet on Thursday, December 6, 2001, in the main conference room of the Montrose BLM Office located at 2465 South Townsend in Montrose, Colorado. The meeting will begin at 9 a.m., and will adjourn upon completion of the agenda, approximately 4 p.m. The purpose of the meeting is to provide orientation to newly-appointed council members and to consider several resource management topics including travel management, oil and gas program, weed management , and coordination with other advisory councils.

The Northwest Colorado RAC will meet on Thursday, December 13, 2001, in the main conference room of the Grand Junction BLM Office located at 2815 H Road in Grand Junction, Colorado. The meeting will begin at 9 a.m., and will adjourn upon completion of the agenda, approximately 4 p.m.. The purpose of the meeting is to provide orientation to newly-appointed council members, to receive updates on recent land use planning activities, and to receive RAC subcommittee updates.

These meetings are open to the public. Interested members of the public may present written or oral comments to either of the RACs at 9:30 a.m, on their respective meeting dates. Per-person time limits for oral statements may be set to allow all interested individuals an opportunity to speak. Subject to the time available, individuals may also be allowed to provide input to the councils during the discussion of specific agenda topics.

Summary minutes of RAC meetings are maintained in the BLM Western Slope Center Office located at 2815 H Road, Grand Junction, CO 81506, phone (970) 244-3000. Minutes are available for public inspection and reproduction during regular business hours within thirty (30) days following the meeting.

Dated: October 17, 2001.
Mark W. Stiles,
Western Slope Center Manager.

[FR Doc. 01-27910 Filed 11-6-01; 8:45 am]

BILLING CODE 4310-JB-P